DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Canyon Fuel Company, LLC.

DATES: All comments on the petition must be received by MSHA's Office of Standards, Regulations, and Variances on or before April 2, 2025.

ADDRESSES: You may submit comments identified by Docket No. MSHA-2025-0025 by any of the following methods:

1. Federal eRulemaking Portal: https://www.regulations.gov. Follow the instructions for submitting comments for MSHA-2025-0025.

2. Fax: 202-693-9441.

3. Email: petitioncomments@dol.gov.

4. Regular Mail or Hand Delivery: MSHA, Office of Standards, Regulations, and Variances, 200 Constitution Ave. NW, Washington, DC 20210.

Attention: S. Aromie Noe, Director, Office of Standards, Regulations, and Variances. Persons delivering documents are required to check in at the receptionist's desk. Individuals may inspect copies of the petition and comments during normal business hours at the address listed above. Before visiting MSHA in person, call 202-693-9455 to make an appointment.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-018-C.

Petitioner: Canyon Fuel Company, LLC, 597 South SR 24, Salina, Utah 84654.

Mine: Sufco Mine, MSHA ID No. 42-00089, located in Sevier County, Utah.

Regulation Affected: 30 CFR 75.1002(a), Permissible electric equipment.

Modification Request: The petitioner requests a modification of 30 CFR 75.1002(a) to permit an alternate method of compliance for respiratory protection. Specifically, the petitioner proposes to use the Drager X-plore 8000 powered air purifying respirator (PAPR) to protect miners from potential exposure to respirable dust during normal mining conditions, within 150 feet of pillar working or longwall faces.

The petitioner states that:

(a) Sufco Mine is proposing to use the Drager X-plore 8000 PAPR in conjunction with the 3M Versa Flo units that have been approved for use. The 3M Versa Flo unit is highly used in the medical field which causes shortage and backorders of filters and other parts of the unit. Sufco feels that the Drager PAPR would help relieve the issues of storages and backorders for the 3M Versa Flo unit filters and other parts, and so that miners will still be provided a method that provides a direct reduction of miners' exposure to respirable dust, thus reducing their health risks.

(b) The Drager X-plore 8000 PAPR provides a constant flow of filtered air to the miners, which provides a direct reduction of miners' exposure to respirable dust, thus reducing their health risks. There are no other MSHA-approved units.

(c) The Drager X-plore 8000 PAPRs are ergonomically designed for greater movement in tight workspaces. This respirator has the following features: helps protect against certain airborne contaminates; is easy to use and maintain; has interchangeable components, which will enable Sufco to customize the PAPR system to help meet the needs of our specific application; is intrinsically safe; has audible and visual alarms; has a multi-speed blower; and the battery offers long run time and charges quickly.

(d) The Drager X-plore 8000 is intrinsically safe and certified by UL under the ANSI/UL 60079-11:13 standard to be used in hazardous locations.

(e) The alternative method will provide no less than the same measure of protection afforded the miners under the existing standard.

The petitioner proposes the following alternative method:

(a) The batteries for the PAPRs shall be charged outby the last open crosscut when not in operation.

(b) The batteries shall be charged by the following products: Drager battery Charger for the X-plore 8000 standard charger.

(c) The Drager X-plore 8000 PAPR shall only use the Drager X-plore 8700 battery.

(d) Affected miners shall be trained in the proper use and care of the PAPR units in accordance with manufacturers' instructions.

(e) The instrument shall be checked for physical damage and the integrity of the case.

(f) If methane is detected in concentrations of 1.0 percent or more, procedures in accordance with 30 CFR 75.323 shall be followed.

(g) There are no representatives of miners at Canyon Fuel Company, LLC, Sufco Mine. A copy of this petition has been posted on the bulletin board on December 29, 2024.

In support of the proposed alternative method, the petitioner has also submitted manufacturer spec sheets for the Drager X-plore PAPR and certificates of compliance from CSAGroup, a nationally recognized testing laboratory (NRTL) in the U.S. and an Accredited Certification Organization by Standards Councils of Canada in Canada.

The petitioner asserts that the alternative method will guarantee no less than the same measure of protection afforded the miners under the mandatory standard.

Song-ae Aromie Noe,
Director, Office of Standards, Regulations, and Variances.

[FR Doc. 2025-03392 Filed 2-28-25; 8:45 am]

BILLING CODE 4520-43-P